DEPARTMENT OF AGRICULTURE

Grain Inspection, Packers and Stockyards Administration

Designation for the Alabama; Essex, IL; Springfield, IL; Savage, MN; and Washington Areas

AGENCY: Grain Inspection, Packers and Stockyards Administration, USDA.

ACTION: Notice.

SUMMARY: GIPSA is announcing designation of the following organizations to provide official services under the United States Grain Standards Act, as amended (USGSA or Act): Alabama Department of Agriculture and Industries (Alabama); Kankakee Grain Inspection, Inc. (Kankakee); Springfield Grain Inspection, Inc. (Springfield); State Grain Inspection, Inc. (State Grain); and Washington Department of Agriculture (Washington).

DATES: Effective January 1, 2009.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the June 2, 2008, Federal Register (73 FR 31431), GIPSA requested applications for designations to provide official services in the geographic areas assigned to the official agencies named above. Applications were due by July 1, 2008.

Alabama, Kankakee, Springfield, State Grain, and Washington were the sole applicants for designation to provide official services in the areas currently assigned to them, so GIPSA did not ask for additional comments on them.

GIPSA evaluated all available information regarding the designation criteria in section 7(f)(l) of the USGSA (7 U.S.C. 79(f)) and determined that Alabama, Kankakee, Springfield, State Grain and Washington are able to provide official services in the geographic areas specified in the June 2, 2008, Federal Register, for which they applied. These designation actions to provide official services are effective January 1, 2009, and terminate December 31, 2011, for Alabama, Kankakee, Springfield, State Grain, and Washington.

Interested persons may obtain official services by calling the telephone numbers listed below.

Official agency | Headquarters location and telephone | Designation start | Designation end
Alabama | Montgomery, AL, 251-438-2549; Additional Locations: Decatur and Mobile, AL | 1/1/2009 | 12/31/2011
Kankakee | Essex, IL, 815-365-2268; Additional Location: Tiskilwa, IL | 1/1/2009 | 12/31/2011
Springfield | Springfield, IL, 217-522-5233 | 1/1/2009 | 12/31/2011
State Grain | Savage, MN, 952-808-8566 | 1/1/2009 | 12/31/2011
Washington | Olympia, WA, 360-753-1484; Additional Locations: Colfax, Kalama, Pasco, Seattle, Spokane, Tacoma and Vancouver, WA | 1/1/2009 | 12/31/2011

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for 3 years unless terminated by the Secretary but may be renewed according to the criteria and procedures prescribed in section 7(f) of the Act.

Authority: 7 U.S.C. 71-87k.

Alan Christian,
Acting Administrator, Grain Inspection, Packers and Stockyards Administration.

[FR Doc. E8-28248 Filed 11-28-08; 8:45 am]

BILLING CODE 3410-KD-P